DEPARTMENT OF TRANSPORTATION

Federal Aviation Administration

14 CFR Part 97

[Docket No. 31222; Amdt. No. 3825]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 20, 2018. The compliance date for each SIAP, associated Takeoff Minimums, and ODP is specified in the amendatory provisions.

The incorporation by reference of certain publications listed in the regulations is approved by the Director of the Federal Register as of November 20, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR part 97:

Air traffic control, Airports, Incorporation by reference, Navigation (air).

Issued in Washington, DC, on November 2, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 6 December 2018

Estherville, IA, Estherville Muni, RANV (GPS) RWY 16, Amdt 1B

Rexburg, ID, Rexburg-Madison County, Takeoff Minimums and Obstacle DP, Amdt 5

Philipsburg, PA, Mid-State, RNAV (GPS) RWY 16, Orig-C

Breckenridge, TX, Stephens County, RNAV (GPS) RWY 17, Orig-B

Breckenridge, TX, Stephens County, RNAV (GPS) RWY 35, Orig-B

* * * Effective 3 January 2019

Brevig Mission, AK, Brevig Mission, BREVIG TWO, Graphic DP

Brevig Mission, AK, Brevig Mission, RNAV (GPS) RWY 12, Amdt 1

Brevig Mission, AK, Brevig Mission, RNAV (GPS) RWY 30, Amdt 1

Brevig Mission, AK, Brevig Mission, Takeoff Minimums and Obstacle DP, Orig-A

Hot Springs, AR, Memorial Field, VOR RWY 5, Amdt 4D

Crescent City, CA, Jack McNamara Field, Takeoff Minimums and Obstacle DP, Amdt 2A

Reedley, CA, Reedley Muni, RNAV (GPS) RWY 16, Orig

Reedley, CA, Reedley Muni, RNAV (GPS) RWY 34, Orig

Reedley, CA, Reedley Muni, Takeoff Minimums and Obstacle DP, Orig

Canon City, CO, Fremont County, RNAV (GPS) RWY 29, Amdt 1

Canon City, CO, Fremont County, RNAV (RNP) RWY 11, Orig-B, CANCELED

Canon City, CO, Fremont County, RNAV (RNP) Z RWY 29, Orig-B, CANCELED

Bridgeport, CT, Igor I Sikorsky Memorial, RNAV (GPS) RWY 29, Amdt 2

Oxford, CT, Waterbury-Oxford, ILS OR LOC RWY 36, Amdt 15

Oxford, CT, Waterbury-Oxford, RNAV (GPS) RWY 18, Amdt 3

Oxford, CT, Waterbury-Oxford, RNAV (GPS) RWY 36, Amdt 3

Idaho Falls, ID, Idaho Falls Rgnl, ILS OR LOC RWY 21, Amdt 12

Idaho Falls, ID, Idaho Falls Rgnl, LOC BC RWY 3, Amdt 7

Idaho Falls, ID, Idaho Falls Rgnl, RNAV (GPS) Y RWY 3, Amdt 2

Idaho Falls, ID, Idaho Falls Rgnl, RNAV (GPS) Y RWY 21, Amdt 2

Idaho Falls, ID, Idaho Falls Rgnl, RNAV (RNP) Z RWY 3, Amdt 1

Idaho Falls, ID, Idaho Falls Rgnl, RNAV (RNP) Z RWY 21, Amdt 1

Idaho Falls, ID, Idaho Falls Rgnl, Takeoff Minimums and Obstacle DP, Amdt 5

Idaho Falls, ID, Idaho Falls Rgnl, VOR RWY 3, Amdt 6D

Idaho Falls, ID, Idaho Falls Rgnl, VOR RWY 21, Amdt 10B

Chicago, IL, Chicago O'Hare Intl, ILS OR LOC RWY 9R, Amdt 12B

Mount Vernon, IL, Mount Vernon, ILS OR LOC RWY 23, Amdt 12

Mount Vernon, IL, Mount Vernon, VOR RWY 5, Amdt 16C, CANCELED

Pittsfield, IL, Pittsfield Penstone Muni, RNAV (GPS) RWY 31, Orig-A

Connersville, IN, Mettel Field, ILS OR LOC RWY 18, Amdt 1

Connersville, IN, Mettel Field, VOR-A, Amdt 1B, CANCELED

Peru, IN, Peru Muni, RNAV (GPS) RWY 1, Orig-B

Junction City, KS, Freeman Field, RNAV (GPS) RWY 36, Orig-E

Eunice, LA, Eunice, RNAV (GPS) RWY 34, Orig-A

Taunton, MA, Taunton Muni—King Field, RNAV (GPS) RWY 30, Amdt 2

Albert Lea, MN, Albert Lea Muni, VOR RWY 35, Amdt 1C

Bigfork, MN, Bigfork Muni, RNAV (GPS) RWY 15, Orig-C

Bigfork, MN, Bigfork Muni, RNAV (GPS) RWY 33, Orig-C

St Louis, MO, St Louis Lambert Intl, ILS OR LOC RWY 6, Amdt 2

St Louis, MO, St Louis Lambert Intl, ILS OR LOC RWY 11, ILS RWY 11 CAT II, ILS RWY 11 CAT III, Amdt 1

St Louis, MO, St Louis Lambert Intl, ILS OR LOC RWY 29, Amdt 2

St Louis, MO, St Louis Lambert Intl, ILS OR LOC RWY 30L, Amdt 12D

St Louis, MO, St Louis Lambert Intl, ILS OR LOC RWY 30R, ILS RWY 30R CAT II, ILS RWY 30R CAT III, Amdt 12

Greensboro, NC, Piedmont Triad Intl, ILS OR LOC RWY 5R, ILS RWY 5R SA CAT II, Amdt 7C

Grand Forks, ND, Grand Forks Intl, RNAV (GPS) RWY 17R, Amdt 1

Nebraska City, NE, Nebraska City Muni, NDB RWY 33, Amdt 2

Pender, NE, Pender Muni, RNAV (GPS) RWY 15, Orig-B

Pender, NE, Pender Muni, RNAV (GPS) RWY 33, Orig-B

Carson City, NV, Carson, RNAV (GPS)-B, Orig

Ticonderoga, NY, Ticonderoga Muni, Takeoff Minimums and Obstacle DP, Amdt 1

Dayton, OH, James M Cox Dayton Intl, ILS OR LOC RWY 24L, Amdt 11

Dayton, OH, James M Cox Dayton Intl, RNAV (GPS) RWY 24L, Amdt 2

Dayton, OH, James M Cox Dayton Intl, RNAV (GPS) Z RWY 6L, Amdt 1E

Dayton, OH, James M Cox Dayton Intl, RNAV (GPS) Z RWY 24R, Amdt 2B

Clearfield, PA, Clearfield-Lawrence, RNAV (GPS) RWY 30, Amdt 1B

Philadelphia, PA, Philadelphia Intl, ILS OR LOC RWY 27L, Amdt 14B

Tullahoma, TN, Tullahoma Rgnl Arpt/Wm Northern Field, NDB RWY 18, Amdt 3B, CANCELED

Tullahoma, TN, Tullahoma Rgnl Arpt/Wm Northern Field, RNAV (GPS) RWY 6, Amdt 2

Borger, TX, Hutchinson County, Takeoff Minimums and Obstacle DP, Amdt 2

Corpus Christi, TX, Corpus Christi Intl, ILS OR LOC RWY 36, Amdt 14

Corpus Christi, TX, Corpus Christi Intl, RNAV (GPS) Y RWY 36, Amdt 3

Beaver, UT, Beaver Muni, Takeoff Minimums and Obstacle DP, Orig-A

Stafford, VA, Stafford Rgnl, RNAV (GPS) RWY 33, Amdt 1A

Olympia, WA, Olympia Rgnl, VOR-A, Amdt 2

Kenosha, WI, Kenosha Rgnl, ILS OR LOC RWY 7L, Amdt 3A

Kenosha, WI, Kenosha Rgnl, RNAV (GPS) RWY 7L, Orig-A

[FR Doc. 2018-24960 Filed 11-19-18; 8:45 am]

BILLING CODE 4910-13-P